ENVIRONMENTAL PROTECTION AGENCY

[FRL-9827-4]

Integrated Science Assessment for Lead

AGENCY: Environmental Protection Agency (EPA).

ACTION: Notice of availability.

SUMMARY: EPA is announcing the availability of a final document titled, “Integrated Science Assessment for Lead” (EPA/600/R-10/075F). The document was prepared by the National Center for Environmental Assessment (NCEA) within EPA's Office of Research and Development as part of the review of the national ambient air quality standards (NAAQS) for lead (Pb).

DATES: The document will be available on or around June 26, 2013.

ADDRESSES: The “Integrated Science Assessment for Lead” will be made available primarily through the Internet on the NCEA home page under the Recent Additions and Publications menus at http://www.epa.gov/ncea. A limited number of CD-ROM or paper copies will be available. Contact Ms. Marieka Boyd by phone: 919-541-0031; fax: 919-541-5078; or email: boyd.marieka@epa.gov to request either of these, and please provide your name, your mailing address, and the document title, “Integrated Science Assessment for Lead” (EPA/600/R-10/075F) to facilitate processing of your request.

FOR FURTHER INFORMATION CONTACT: For technical information, contact Dr. Ellen Kirrane, NCEA; telephone: 919-541-1340; facsimile: 919-541-2985; or email: Kirrane.ellen@epa.gov.

SUPPLEMENTARY INFORMATION:

Background

Section 108 (a) of the Clean Air Act directs the Administrator to identify certain pollutants, which among other things, “cause or contribute to air pollution which may reasonably be anticipated to endanger public health or welfare” and to issue air quality criteria for them. These air quality criteria are to “accurately reflect the latest scientific knowledge useful in indicating the kind and extent of all identifiable effects on public health or welfare which may be expected from the presence of [a] pollutant in the ambient air. . . .” Under section 109 of the Act, EPA is then to establish NAAQS for each pollutant for which EPA has issued criteria. Section 109 (d) of the Act subsequently requires periodic review and, if appropriate, revision of existing air quality criteria to reflect advances in scientific knowledge on the effects of the pollutant on public health or welfare. EPA is also to periodically review and, if appropriate, revise the NAAQS, based on the revised air quality criteria.

Pb is one of six “criteria” pollutants for which EPA has established NAAQS. Periodically, EPA reviews the scientific basis for these standards by preparing an Integrated Science Assessment (ISA) (formerly called an Air Quality Criteria Document). The ISA provides a concise review, synthesis, and evaluation of the most policy-relevant science to serve as a scientific foundation for the review of the NAAQS. The Clean Air Scientific Advisory Committee (CASAC), an independent science advisory committee whose review and advisory functions are mandated by Section 109 (d) (2) of the Clean Air Act, is charged (among other things) with independent scientific review of EPA's air quality criteria.

On February 26, 2010 (75 FR 8934), EPA formally initiated its current review of the air quality criteria for Pb, requesting the submission of recent scientific information on specified topics. Soon after, a science policy workshop was held to identify key policy issues and questions to frame the review of the Pb NAAQS (75 FR 20843). Drawing from the workshop discussions, a draft of EPA's “Integrated Review Plan for the National Ambient Air Quality Standards for Lead” (EPA/452/D-11/001) was developed and made available in March 2011 for public comment and was discussed by the CASAC Pb Review Panel (CASAC panel) via a publicly accessible teleconference consultation on May 5, 2011 (76 FR 20347, 76 FR 21346). The final Integrated Review Plan was released in December 2011 (76 FR 76972) and is available at http://www.epa.gov/ttn/naaqs/standards/pb/s_pb_2010_pd.html.

As part of the science assessment phase of the review, EPA held a workshop in December 2010 to discuss, with invited scientific experts, initial draft materials prepared in the development of the ISA (75 FR 69078). The first external review draft ISA for Pb was released on May 6, 2011 (http://cfpub.epa.gov/ncea/isa/recordisplay.cfm?deid=226323). The CASAC panel met at a public meeting on July 20, 2011, to review the draft ISA (76 FR 36120). Subsequently, on December 9, 2011, the CASAC provided a consensus letter for their review to the Administrator of the EPA (http://yosemite.epa.gov/sab/sabproduct.nsf/fedrgstr_activites/D3E2E8488025344D852579610068A8A1/$File/EPA-CASAC-12-002-unsigned.pdf). The second external review draft ISA for Pb was released on February 2, 2012 (http://cfpub.epa.gov/ncea/isa/recordisplay.cfm?deid=235331). The CASAC panel met at a public meeting on April 10, 2012, to review the draft ISA (77 FR 14783). Subsequently, on July 20, 2012, the CASAC provided a consensus letter for their review to the Administrator of the EPA (http://yosemite.epa.gov/sab/sabproduct.nsf/13B1FD83815FA11885257A410064E0DC/$File/EPA-CASAC-12-005-unsigned.pdf). The third external review draft ISA for Pb was released on November 27, 2012 (http://cfpub.epa.gov/ncea/isa/recordisplay.cfm?deid=242655). The CASAC panel met at a public meeting on February 5, 2013, to review the draft ISA (78 FR 938). Subsequently, on June 4, 2013, the CASAC provided a consensus letter for their review to the Administrator of the EPA (http://yosemite.epa.gov/sab/sabproduct.nsf/0/39A3C8177D869EA085257B80006C7684/$File/EPA-CASAC-13-004+unsigned.pdf). The letters from CASAC, as well as public comments received on the ISA drafts can be found in Docket ID No. EPA-HQ-ORD-2011-0051.

EPA has considered comments by the CASAC panel and by the public in preparing this final ISA.

Dated: June 18, 2013.
Abdel M. Kadry,
Acting Director, National Center for Environmental Assessment.

[FR Doc. 2013-15144 Filed 6-25-13; 8:45 am]

BILLING CODE 6560-50-P